DEPARTMENT OF STATE

[Public Notice 4978]

Foreign Terrorists and Terrorist Organizations

In the matter of the revocation of Kahane.net as an alias of Kahane Chai, also known as Kach, also known as Kahane Lives, also known as the Kfar Tapuah Fund, also known as The Judean Voice, also known as The Judean Legion, also known as The Way of the Torah, also known as The Yeshiva of the Jewish Idea, also known as the Repression of Traitors, also known as Dikuy Bogdim, also known as DOV, also known as the State of Judea, also known as the Committee for the Safety of the Roads, also known as the Sword of David, also known as Judea Police, also known as Forefront of the Idea, also known as The Qomemiyut Movement, also known as KOACH, also known as New Kach Movement, also known as newkach.org, also known as Kahane, also known as Yeshivat HaRav Meir, also known as the International Kahane Movement, also known as Kahane.org, also known as Kahanetzadak.com, also known as Kahane Tzadak, also known as the Hatikva Jewish Identity Center, also known as the Rabbi Meir David Kahane Memorial Fund, also known as Friends of the Jewish Idea Yeshiva, also known as Judean Congress, also known as Jewish Legion, also known as The Voice of Judea, also known as No'ar Meir, also known as Meir's Youth, also known as American Friends of Yeshivat Rav Meir, also known as American Friends of the United Yeshiva Movement, also known as The Committee Against Racism and Discrimination (CARD), a Foreign Terrorist Organization pursuant to Section 219 of the Immigration and Nationality Act.

In consultation with the Attorney General and the Secretary of the Treasury, the Secretary of State hereby revokes the designation of Kahane.net as an alias of Kahane Chai, also known as Kach, Kahane.org, and the other aliases listed above, pursuant to section 219 of the INA, based on a finding that circumstances have changed in such a manner as to warrant revocation. This revocation is effective on the date of publication of this notice. In all other respects, the redesignation on October 2, 2003 of Kahane Chai, also known as Kach, Kahane.org, and the other aliases listed above is maintained.

Dated: January 25, 2005.
William P. Pope,
Acting Coordinator for Counterterrorism, Department of State.

[FR Doc. 05-1607 Filed 1-27-05; 8:45 am]

BILLING CODE 4710-10-P